DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on October 24, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On October 24, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

As a result, the property and interests in property subject to U.S. jurisdiction of the following persons are blocked under the relevant sanctions authorities listed below.

Individuals

1. PETRO URREGO, Gustavo Francisco, Bogota, Colombia; DOB 19 Apr 1960; POB Zipaquira, Colombia; nationality Colombia; citizen Colombia; alt. citizen Italy; Gender Male; Cedula No. 208079 (Colombia) (individual) [ILLICIT-DRUGS-EO14059].

Designated pursuant to section 1(a)(i) of E.O. 14059 for having engaged in, or attempted to engage in, activities or transactions that have materially contributed to, or pose a significant risk of materially contributing to, the international proliferation of illicit drugs or their means of production.

2. ALCOCER GARCIA, Veronica del Socorro, Bogota, Colombia; DOB 26 May 1976; POB Sincelejo, Colombia; nationality Colombia; Gender Female; Cedula No. 64575315 (Colombia) (individual) [ILLICIT-DRUGS-EO14059] (Linked To: PETRO URREGO, Gustavo Francisco).

Designated pursuant to section 1(b)(i)(B) of E.O. 14059 for having provided, or attempted to provide, financial, material, or technological support for, or goods or services in support of, Gustavo Francisco Petro Urrego, a person whose property and interests in property are blocked pursuant to E.O. 14059.

3. BENEDETTI VILLANEDA, Armando Alberto, Colombia; DOB 29 Aug 1967; POB Barranquilla, Colombia; nationality Colombia; Gender Male; Cedula No. 72148060 (Colombia) (individual) [ILLICIT-DRUGS-EO14059] (Linked To: PETRO URREGO, Gustavo Francisco).

Designated pursuant to section 1(b)(i)(B) of E.O. 14059 for having provided, or attempted to provide, financial, material, or technological support for, or goods or services in support of, Gustavo Francisco Petro Urrego, a person whose property and interests in property are blocked pursuant to E.O. 14059.

4. PETRO BURGOS, Nicolas Fernando, Barranquilla, Colombia; DOB 21 Jun 1986; POB Cienaga de Oro, Colombia; nationality Colombia; Gender Male (individual) [ILLICIT-DRUGS-EO14059] (Linked To: PETRO URREGO, Gustavo Francisco).

Designated pursuant to section 1(b)(i)(B) of E.O. 14059 for having provided, or attempted to provide, financial, material, or technological support for, or goods or services in support of, Gustavo Francisco Petro Urrego, a person whose property and interests in property are blocked pursuant to E.O. 14059.

Lawrence M. Scheinert,
Associate Director, Office of Foreign Assets Control.

[FR Doc. 2025-20152 Filed 11-17-25; 8:45 am]

BILLING CODE 4810-AL-P